DEPARTMENT OF LABOR

Employee Benefits Security Administration

Working Group on Health Care Security Advisory Council on Employee Welfare and Pension Benefits Plans; Notice of Meeting

Pursuant to the authority contained in section 512 of the Employee Retirement Income Security Act of 1974 (ERISA), 29 U.S.C. 1142, a public meeting will be held Wednesday, June 25, 2003, of the Advisory Council on Employee Welfare and Pension Benefit Plans Working Group assigned to study health care security.

The session will take place in Room N-4437 C-D, U.S. Department of Labor, 200 Constitution Avenue NW., Washington, DC 20210. The purpose of the open meeting, which will run from 9 a.m. to approximately 4 p.m., is for Working Group members to hear testimony from witnesses about the relative merits of defined contribution and self-insured health plans.

Members of the public are encouraged to file a written statement pertaining to the topic by submitting 20 copies before June 18, 2003 to Sharon Morrisey, Executive Secretary, ERISA Advisory Council, U.S. Department of Labor, Room N-5677, 200 Constitution Avenue, NW., Washington, DC 20210. Individuals or representatives or organizations wishing to address the working group should contact the Executive Secretary by mail or call (202) 693-8668 before June 18. Oral presentatives should be limited to 20 minutes, but an extended statement may be submitted for the record. Individuals with disabilities who need special accommodations should contact the Executive Secretary by mail or phone before June 18.

Organizations or individuals may also submit statements for the record without testifying. Twenty (20) copies of such statements should be sent to the Executive Secretary before June 18. Papers received after that date will not be included in the record of the meeting.

Signed in Washington, DC this 5th day of June 2003.
Paul Zurawski,
Deputy Assistant Secretary, Employee Benefits Security Administration.

[FR Doc. 03-14701 Filed 6-10-03; 8:45 am]

BILLING CODE 4510-29-M